DEPARTMENT OF COMMERCE

National Oceanic and Atmospheric Administration

RIN 0648-XE136

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (MAFMC) Scientific and Statistical Committee (SSC) will hold a public meeting.

DATES: The meeting will be held on Wednesday and Thursday, September 16-17, 2015, from 9 a.m. on September 16 and conclude by 2 p.m. on September 17. For agenda details, see SUPPLEMENTARY INFORMATION.

ADDRESSES: The meeting will be held at the Double Tree by Hilton Annapolis, 210 Holiday Court, Annapolis, MD 21401; telephone: (410) 224-3150.

Council address: Mid-Atlantic Fishery Management Council, 800 N. State Street, Suite 201, Dover, DE 19901; telephone: (302) 674-2331 or on their Web site at www.mafmc.org.

FOR FURTHER INFORMATION CONTACT: Christopher M. Moore, Ph.D., Executive Director, Mid-Atlantic Fishery Management Council, telephone: (302) 526-5255.

SUPPLEMENTARY INFORMATION: Agenda items to be discussed at the SSC meeting include: Review fishery performance reports and recommend multi-year ABC specifications for spiny dogfish; receive report of peer review of data limited methods applied to black sea bass for potential changes to current and future ABC specifications; discuss research prioritization and five-year research plan; discuss outcomes from the Fifth National SSC Workshop; receive update on sex-specific research and population modeling for summer flounder; and review and discussion on how the SSC applies coefficient of variation levels to overfishing limit specifications.

Special Accommodations

This meeting is physically accessible to people with disabilities. Requests for sign language interpretation or other auxiliary aid should be directed to M. Jan Saunders, (302) 526-5251, at least 5 days prior to the meeting date.

Dated: August 26, 2015.
Tracey L. Thompson,
Acting Deputy Director, Office of Sustainable Fisheries, National Marine Fisheries Service.

[FR Doc. 2015-21445 Filed 8-28-15; 8:45 am]

BILLING CODE 3510-22-P